DEPARTMENT OF TRANSPORTATION

Coast Guard

33 CFR Part 117

[CGD09-00-001]

RIN-2115-AE47

Drawbridge Operation Regulations; Pine River (Charlevoix), Michigan

AGENCY: Coast Guard, DOT.

ACTION: Direct final rule, confirmation of effective date.

SUMMARY: On March 22, 2000, the Coast Guard published a direct final rule (65 FR 15238, CGD09-00-001) in the Federal Register. This direct final rule notified the public of the Coast Guard's intent to revise the operating regulations governing the U.S. Route 31 bridge, mile 0.3 over Pine River in Charlevoix, Michigan, to alleviate vehicular traffic congestion during the peak tourist season while still providing for the reasonable needs of navigation. The Coast Guard has not received any adverse comments or any notice of intent to submit adverse comments objecting to this rule as written. Therefore, this rule will go into effect as scheduled.

DATES: The effective date of the direct final rule is confirmed as June 20, 2000.

FOR FURTHER INFORMATION CONTACT: Mr. Scot M. Striffler, Project Manager, Ninth Coast Guard District (obr), at (216) 902-6084.

Dated: May 24, 2000.
James D. Hull,
Rear Admiral, U.S. Coast Guard, Commander, Ninth Coast Guard District.

[FR Doc. 00-14154 Filed 6-7-00; 8:45 am]

BILLING CODE 4910-15-U